NATIONAL SCIENCE FOUNDATION

National Science Board

Sunshine Act Meetings; Notice

The National Science Board, pursuant to NSF regulations (45 CFR Part 614), the National Science Foundation Act, as amended (42 U.S.C. 1862n-5), and the Government in the Sunshine Act (5 U.S.C. 552b), hereby gives notice in regard to the scheduling of meetings for the transaction of National Science Board business and other matters specified, as follows:

AGENCY HOLDING MEETING: National Science Board.

Date and Time: Monday, September 22, 2008, at 8 a.m.

Place: University of Alaska Fairbanks, Elvey Building, Globe Room, Fairbanks, AK 99775.

Status: Some portions open, some portions closed

Open Sessions

September 22, 2008

8 a.m.-8:10 a.m.

8:10 a.m.-11:15 a.m.

11:15 a.m.-12 p.m.

Closed Sessions

September 22, 2008

1:30 p.m.-2:15 p.m.

2:15 p.m.-2:30 p.m.

Agency Contact: Dr. Robert E. Webber, rwebber@nsf.gov, (703) 292-7000, http://www.nsf.gov/nsb/.

Matters To Be Discussed

Monday, September 22, 2008

Open Session: 8 a.m.-8:10 a.m.

Chairman's Introduction and University of Alaska Fairbanks Welcome

Committee on Programs and Plans (CPP)

Open Session: 8:10 a.m.-11:15 a.m.

Approval of August 2008 CPP Minutes

Committee Chairman's Remarks

Task Force on Sustainable Energy (SE)

SE Task Force Co-Chairmen's Remarks

Discussion and Summary of September 4, 2008 Roundtable Discussion

Discussion of Possible Recommendations for Inclusion in a Draft Report

Discussion of upcoming Task Force Activities

NSB Information Item: National Nanotechnology Infrastructure Network (NNIN).

Review of NSF Major Research Facilities and the Major Research Equipment and Facilities Construction (MREFC) Process

Major Research Facilities and Facility Plan: Horizon Projects; Maintenance and Operations Planning for Large Facilities; and Policy Issues

Review of MREFC Process

Discussion

Plenary Open

Open Session: 11:15 a.m.—12 p.m.

Approval of August 2008 Minutes

Resolution to Close December 2008 Meeting

Chairman's Report

Director's Report

Open Committee Report

Committee on Programs and Plans (CPP)

Closed Session: 1:30 p.m.—2:15 p.m.

Chairman's Remarks

NSB Information Item: National Astronomy and Ionosphere Center (NAIC)

NSB Action Item: Management and Operations of the National Optical Astronomy Observatory and the National Solar Observatory

Plenary Closed

Closed Session: 2:15 p.m.—2:30 p.m.

Approval of August 2008 Minutes

Awards and Agreements

Closed Committee Reports

Ann Ferrante,
Technical Writer/Editor.

[FR Doc. E8-21804 Filed 9-18-08; 8:45 am]

BILLING CODE 7555-01-P